DEPARTMENT OF INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on May 22, 2000, in Santa Fe, New Mexico.

The Board was established by Congress to provide leadership, policy advice, and professional oversight to the National Center for Preservation Technology and Training, as required under the National Historic Preservation Act of 1966, as amended (16 U.S.C. 470).

The Board will meet in the DeVargas room of the Hotel St. Francis, 201 Don Gasper Avenue, Santa Fe, New Mexico. Matters to be discussed will include, officer and committee reports; consideration of present and future NCPTT programs; consideration of NCPTT mission and long-range plan, assess the accomplishment of the board's first six years; and the election of officers for two-year terms.

Monday, May 22 the meeting will start at 8:30 a.m. and end at 5 p.m. The meeting will be open to the public. However, facilities and space for accommodating members of the public are limited and persons will be accommodated on a first-come, first-served basis. Any member of the public may file a written statement concerning the matters to be discussed with Dr. Elizabeth A. Lyon, Chair, National Preservation Technology and Training Board, P.O. Box 1269, Flowery Branch, Georgia 30542.

Persons wishing more information concerning this meeting, or who wish to submit written statements, may do so by contacting Mr. E. Blaine Cliver, Chief, HABS/HAER, National Park Service, 1849 C Street, NW, Washington, DC 20240, telephone: (202) 343-9573. Draft summary minutes of the meeting will be available for public inspection about eight weeks after the meeting at the office of the Preservation Assistance Division, Suite 200, 800 North Capitol Street, Washington, DC.

Dated: April 20, 2000.
E. Blaine Cliver,
Chief, HABS/HAER, Designated Federal Official, National Park Service.

[FR Doc. 00-10376 Filed 4-25-00; 8:45 am]

BILLING CODE 4310-70-P